DEPARTMENT OF TRANSPORTATION

Federal Transit Administration

[Docket No. FTA-2007-29122]

Notice of Proposed Guidance and Request for Comment on the Federal Transit Administration's Grant Management Requirements (FTA Circular 5010.1D)

AGENCY: Federal Transit Administration (FTA), DOT.

ACTION: Notice of availability of proposed guidance and request for comment.

SUMMARY: This notice proposes guidance in the form of a revised circular on the Federal Transit Administration's Grant Management Requirements and seeks comment thereon. Proposed Circular 5010.1D modifies FTA's existing Grants Management Circular 5010.1C in several material respects. Among other things, Circular 5010.1D proposes to expand the circumstances under which a grantee may request budget revisions and grant amendments, to identify useful life standards for trolleys, ferry boats, and facilities, and to increase the threshold triggering FTA review and approval for appraisals of real property. In addition to the foregoing substantive changes, proposed Circular 5010.1D updates FTA's guidance to reflect current policy and new FTA programs; restructures the circular; and clarifies FTA's requirements and processes.

DATES: Comments must be received by November 27, 2007. Late-filed comments will be considered to the extent practicable.

ADDRESSES: To ensure your comments are not entered more than once into the docket, submit comments identified by the docket number [FTA-2007-29122] by only one of the following methods:

1. Web site: www.regulations.gov. Follow the instructions for submitting comments on the U.S. Government electronic docket site. [NOTE: The U.S. Department of Transportation's (DOT's) electronic docket is no longer accepting electronic comments. All electronic submissions must be made to the U.S. Government electronic docket site at www.regulations.gov. Commenters should follow the directions below for mailed and hand-delivered comments.]

2. Fax: 202-493-2251.

3. Mail: U.S. Department of Transportation, 1200 New Jersey Ave., SE., Docket Operations, M-30, West Building, Ground Floor, Room W12-140, Washington, DC 20590-0001.

4. Hand Delivery: U.S. Department of Transportation, 1200 New Jersey Ave., SE., Docket Operations, M-30, West Building, Ground Floor, Room W12-140, Washington, DC 20590 between 9 a.m. and 5 p.m., Monday through Friday, except Federal holidays.

See the SUPPLEMENTARY INFORMATION section for detailed instructions on how to submit comments and access docket information.

FOR FURTHER INFORMATION CONTACT: For program questions, please contact Jamie Pfister at 404-865-5632 or jamie.pfister@dot.gov. For legal questions, please contact Jayme L. Blakesley at 202-366-0304 or jayme.blakesley@dot.gov.

SUPPLEMENTARY INFORMATION:

Comment Instructions and Docket Access Information;

Instructions: You must include the agency name (Federal Transit Administration) and Docket number (FTA-2007-29122) for this notice at the beginning of your comments. Submit two copies of your comments if you submit them by mail. Due to security procedures in effect since October 2001 regarding mail deliveries, mail received through the U.S. Postal Service may be subject to delays. Parties making submissions responsive to this notice should consider using an express mail firm to ensure the prompt filing of any submissions not filed electronically or by hand. For confirmation that FTA has received your comments, include a self-addressed stamped postcard. Note that all comments received, including any personal information, will be available to Internet users and will be posted without change to www.regulations.gov. You may review DOT's complete Privacy Act Statement in the Federal Register (65 FR 19477, April 11, 2000).

Docket: For access to the docket to read background documents and comments received, go to www.regulations.gov at any time or to the U.S. Department of Transportation, 1200 New Jersey Ave., SE., Docket Operations, M-30, West Building, Ground Floor, Room W12-140, Washington, DC 20590 between 9 a.m. and 5 p.m., Monday through Friday, except Federal holidays.

Table of Contents

I. Overview

II. Grant Modifications, Useful Life of Assets, and Management of Real Property Analysis

A. Grant Modifications

B. Useful Life of Assets

C. Management of Real Property

I. Overview

This notice announces the availability of FTA's Proposed Grants Management Circular (5010.1D) and requests your comment as described below. The text of Proposed Circular 5010.D is available in its entirety on the electronic docket site at www.regulations.gov docket number FTA-2007-29122.

Proposed Circular 5010.1D modifies FTA's existing Grants Management Circular 5010.1C in several material respects. Among other things, Circular 5010.1D proposes to distinguish between grant administration and project management; expand the circumstances under which a grantee may request budget revisions and grant amendments; identify useful life standards for facilities and rolling stock, including trolleys and other assets; and increase the threshold triggering FTA review and approval for appraisals of real property. In addition to the foregoing substantive changes, Proposed Circular 5010.1D updates FTA's guidance to reflect current policy and new FTA programs; restructures the circular for consistency with FTA law, regulation, and guidance; and clarifies FTA's requirements and processes, specifically those related to reporting, acquiring real property, and disposing assets.

FTA seeks comment on the entire Proposed Circular 5010.1D. Comments received will be considered by FTA when it develops its Final Circular 5010.1D. FTA will respond to comments received in response to this notice in a second Federal Register notice to be published after the close of the comment period. The second notice will reflect the changes implemented as a result of the comments received in response to this Federal Register notice and will announce the availability of the Final Circular 5010.1D.

In particular, FTA seeks comments on Proposed Circular 5010.1D's treatment of grant modifications, useful life of assets, and management of real property.

II. Grant Modifications, Useful Life of Assets, and Management of Real Property Analysis

A. Grant Modifications

With respect to grant modifications, including budget revisions and grant amendments, FTA proposes to expand the circumstances under which a grantee may request a budget revision instead of a grant amendment. These expanded circumstances will require FTA concurrence before a grantee may incur costs pursuant to the proposed change. By requiring prior approval, FTA can confirm that budget revisions are consistent with the National Environmental Policy Act (NEPA), Statewide Transportation Improvement Plan (STIP), and other legal and programmatic requirements. FTA proposes to include in its review of grant modifications a determination of whether the proposed change will require a certificate from the Department of Labor (DOL) on Employee Protective Arrangements. Also, FTA proposes changes to its use of the term “scope” as it relates to grant modifications, and to place greater emphasis on the Transportation Electronic Award and Management (TEAM) system scope code as an indicator of the project scope.

B. Useful Life of Assets

FTA Circular 5010.1C only includes useful life standards for rolling stock, specifically buses, vans, and rail vehicles. FTA uses these useful life standards to determine when the Federal interest in an asset expires, particularly when giving disposition instructions to a grantee pursuant to the requirements of the Common Grant Rule at 49 CFR 18.31. FTA Circular 5010.1D proposes to include useful life standards in subsequent grant agreements, and proposes useful life standards for trolleys, ferry boats, and facilities. FTA seeks comment on how to develop useful life standards for grant management purposes. In particular, FTA lacks information regarding the useful life of ferry boats and seeks comments on how to devise this standard.

FTA considered using its Standard Cost Category worksheet for Annualized Costs, which is used primarily for New Starts projects, to identify useful life standards for various project components, including facilities. Recognizing, however, that FTA's New Starts Program assesses the useful life of assets for purposes different from Proposed Circular 5010.1D (the New Starts Cost Category worksheet looks to the maximum useful life while Proposed Circular 5010.1D looks to the minimum), FTA proposes to adopt different useful life standards for facilities than those outlined in the New Starts Standard Cost Category worksheet. Rather, FTA proposes the language located at Chapter IV, Section 3 of Proposed Circular 5010.1D.

C. Management of Real Property

With respect to the management of real property, FTA proposes to raise the threshold for an appraisal concurrence from $250,000 to $500,000. Moreover, FTA proposes to update its acquisition, appraisal, and relocation requirements to conform to regulatory changes at 49 CFR part 24.

Issued this 24th day of September, 2007.
James S. Simpson,
Administrator.

[FR Doc. E7-19115 Filed 9-27-07; 8:45 am]

BILLING CODE 4910-57-P